DEPARTMENT OF DEFENSE

Department of the Army

[Docket ID: USA-2025-HQ-0136]

Submission for OMB Review; Comment Request

AGENCY: Department of the Army, Department of Defense (DoD).

ACTION: 30-Day information collection notice.

SUMMARY: The DoD has submitted to the Office of Management and Budget (OMB) for clearance the following proposal for collection of information under the provisions of the Paperwork Reduction Act.

DATES: Consideration will be given to all comments received by January 28, 2026.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Exchange Security Verification for Contractors/Vendors; Exchange Forms 3900-002, 3900-006, and 3900-013; OMB Control Number 0702-0135.

Type of Request: Extension.

Number of Respondents: 2,900.

Responses per Respondent: 1.

Annual Responses: 2,900.

Average Burden per Response: 30 minutes.

Annual Burden Hours: 1,450.

Needs and Uses: The information collection requirement is necessary for the processing of all Army and Air Force Exchange Service (Exchange) security clearance actions, to record security clearances issued or denied, and to verify eligibility for access to classified information or assignments to sensitive positions. Respondents are individuals or businesses affiliated with the Exchange by assignment, employment contractual relationship, or because of an inter-service support agreement on which personnel security clearance determination has been completed or is pending. In addition to utilizing the information for processing security clearances, the information may be used by Exchange executives for adverse personnel actions such as removal from sensitive duties, removal from contract agreement, denial to a restricted or sensitive area, and revocation of security clearance.

Affected Public: Individuals or households; business or other for-profit.

Frequency: On occasion.

Respondent's Obligation: Voluntary.

DoD Clearance Officer: Mr. Reginald Lucas.

Dated: December 19, 2025.
Stephanie J. Bost,
Alternate OSD Federal Register Liaison Officer, Department of Defense.

[FR Doc. 2025-23787 Filed 12-23-25; 8:45 am]

BILLING CODE 6001-FR-P